DEPARTMENT OF VETERANS AFFAIRS

[OMB Control No. 2900-0128]

Proposed Information Collection (Notice of Lapse & Application for Reinstatement) Activity: Withdrawal

AGENCY: Veterans Benefits Administration, Department of Veterans Affairs.

ACTION: Notice; withdrawal.

SUMMARY: On Friday, May 15, 2015, The Veterans Benefits Administration (VBA), Department of Veterans Affairs (VA), published a notice in the Federal Register announcing an opportunity for public comment on the proposed collection Notice of Lapse & Application for Reinstatement. This notice (FR Vol. 80, Number 94, May 15, 2015) was published in error; therefore this document corrects that error by withdrawing this FR notice, document number 2015-28050-28051.

DATES: Withdraw FR notice published on Friday, May 15, 2015.

FOR FURTHER INFORMATION CONTACT: Crystal Rennie, Enterprise Records Service (005R1B), Department of Veterans Affairs, 810 Vermont Avenue NW., Washington, DC 20420, at (202) 632-7492.

FR Doc. 2015, published on May 15, 2015 (FR Vol 80, Number 94), is withdrawn by this notice.

By direction of the Secretary.
Kathleen M. Manwell,
VA Privacy Service, Office of Privacy and Records Management, Department of Veterans Affairs.

[FR Doc. 2015-16946 Filed 7-10-15; 8:45 am]

BILLING CODE 8320-01-P